DEPARTMENT OF ENERGY

Federal Energy Regulatory Commission

Combined Notice of Filings #1

Take notice that the Commission received the following electric rate filings:

Docket Numbers: ER10-3307-004.

Applicants: NRG Energy Center Dover LLC.

Description: Compliance filing: Compliance Filing of Reactive Power Rate Schedule to be effective 5/9/2018.

Filed Date: 11/30/18.

Accession Number: 20181130-5147.

Comments Due: 5 p.m. ET 12/21/18.

Docket Numbers: ER12-1933-009; ER12-1934-008.

Applicants: Interstate Power and Light Company, Wisconsin Power and Light Company.

Description: Second Supplement to June 29, 2018 Updated Triennial Market Power analysis for the Central region of Interstate Power and Light Company, et. al.

Filed Date: 11/30/18.

Accession Number: 20181130-5210.

Comments Due: 5 p.m. ET 12/21/18.

Docket Numbers: ER17-135-007.

Applicants: DesertLink, LLC.

Description: Compliance filing: Compliance Filing—Desert Link to be effective 11/30/2018.

Filed Date: 11/30/18.

Accession Number: 20181130-5238.

Comments Due: 5 p.m. ET 12/21/18.

Docket Numbers: ER18-169-000.

Applicants: Southern California Edison Company.

Description: Informational Filing of Notice of Revision to Formula Transmission Rate Annual Update of Southern California Edison Company.

Filed Date: 11/29/18.

Accession Number: 20181129-5272.

Comments Due: 5 p.m. ET 12/20/18.

Docket Numbers: ER18-459-004.

Applicants: Ohio Valley Electric Corporation, PJM Interconnection, L.L.C.

Description: Compliance filing: PJM and OVEC submit revisions to the OATT re: OVEC Zones Trans. Rate Update to be effective 12/1/2018.

Filed Date: 11/30/18.

Accession Number: 20181130-5032.

Comments Due: 5 p.m. ET 12/21/18.

Docket Numbers: ER18-2208-001.

Applicants: New England Power Pool Participants Committee.

Description: Tariff Amendment: 132nd Agreement Deficiency Letter Response to be effective 11/1/2018.

Filed Date: 11/30/18.

Accession Number: 20181130-5282.

Comments Due: 5 p.m. ET 12/21/18.

Docket Numbers: ER19-151-000.

Applicants: MATL LLP.

Description: Report Filing: Supplement to Open Solicitation Filing to be effective N/A.

Filed Date: 11/29/18.

Accession Number: 20181129-5196.

Comments Due: 5 p.m. ET 12/20/18.

Docket Numbers: ER19-158-001.

Applicants: Ambit Northeast, LLC.

Description: Tariff Amendment: Ambit Northeast LLC Amended MBR Application to be effective 10/22/2018.

Filed Date: 11/30/18.

Accession Number: 20181130-5272.

Comments Due: 5 p.m. ET 12/21/18.

Docket Numbers: ER19-429-000.

Applicants: Mid-Atlantic Interstate Transmission, LLC, PJM Interconnection, L.L.C.

Description: § 205(d) Rate Filing: MAIT submits OIA SA No. 4577 to be effective 1/29/2019.

Filed Date: 11/29/18.

Accession Number: 20181129-5197.

Comments Due: 5 p.m. ET 12/20/18.

Docket Numbers: ER19-430-000.

Applicants: Enel Green Power Hilltopper Wind, LLC.

Description: Compliance filing: Notice of Non-Material Change in Status to be effective 11/30/2018.

Filed Date: 11/29/18.

Accession Number: 20181129-5198.

Comments Due: 5 p.m. ET 12/20/18.

Docket Numbers: ER19-431-000.

Applicants: NSTAR Electric Company.

Description: § 205(d) Rate Filing: Distribution Service Agreement between NSTAR Electric Co. and MATEP LLC to be effective 1/30/2019.

Filed Date: 11/29/18.

Accession Number: 20181129-5219.

Comments Due: 5 p.m. ET 12/20/18.

Docket Numbers: ER19-432-000.

Applicants: Pacific Gas and Electric Company.

Description: § 205(d) Rate Filing: PG&E Coyote Valley Energy Storage SGIA (SA 407) to be effective 1/30/2019.

Filed Date: 11/30/18.

Accession Number: 20181130-5000.

Comments Due: 5 p.m. ET 12/21/18.

Docket Numbers: ER19-433-000.

Applicants: Union Electric Company.

Description: § 205(d) Rate Filing: Revised Reactive Rate Schedule 22 to be effective 12/1/2018.

Filed Date: 11/30/18.

Accession Number: 20181130-5001.

Comments Due: 5 p.m. ET 12/21/18.

Docket Numbers: ER19-433-001.

Applicants: Union Electric Company.

Description: Tariff Amendment: Amended Reactive Rate Schedule 22 to be effective 12/1/2018.

Filed Date: 11/30/18.

Accession Number: 20181130-5173.

Comments Due: 5 p.m. ET 12/21/18.

Docket Numbers: ER19-434-000.

Applicants: Steamboat Hills LLC.

Description: § 205(d) Rate Filing: Revisions to Market-Based Rate Tariff (Steamboat Hills LLC) to be effective 1/30/2019.

Filed Date: 11/30/18.

Accession Number: 20181130-5054.

Comments Due: 5 p.m. ET 12/21/18.

Docket Numbers: ER19-435-000.

Applicants: ORNI 47 LLC.

Description: § 205(d) Rate Filing: Revisions to Market-Based Rate Tariff (ORNI 47 LLC) to be effective 1/30/2019.

Filed Date: 11/30/18.

Accession Number: 20181130-5057.

Comments Due: 5 p.m. ET 12/21/18.

Docket Numbers: ER19-436-000.

Applicants: ORNI 43 LLC.

Description: § 205(d) Rate Filing: Revisions to Market-Based Rate Tariff (ORNI 43 LLC) to be effective 1/30/2019.

Filed Date: 11/30/18.

Accession Number: 20181130-5063.

Comments Due: 5 p.m. ET 12/21/18.

Docket Numbers: ER19-437-000.

Applicants: ORNI 39 LLC.

Description: § 205(d) Rate Filing: Revisions to Market-Based Rate Tariff (ORNI 39 LLC) to be effective 1/30/2019.

Filed Date: 11/30/18.

Accession Number: 20181130-5064.

Comments Due: 5 p.m. ET 12/21/18.

Docket Numbers: ER19-438-000.

Applicants: ORNI 37 LLC.

Description: § 205(d) Rate Filing: Revisions to Market-Based Rate Tariff (ORNI 37 LLC) to be effective 1/30/2019.

Filed Date: 11/30/18.

Accession Number: 20181130-5066.

Comments Due: 5 p.m. ET 12/21/18.

Docket Numbers: ER19-439-000.

Applicants: ORNI 14 LLC.

Description: § 205(d) Rate Filing: Revisions to Market-Based Rate Tariff (ORNI 14 LLC) to be effective 1/30/2019.

Filed Date: 11/30/18.

Accession Number: 20181130-5071.

Comments Due: 5 p.m. ET 12/21/18.

Docket Numbers: ER19-440-000.

Applicants: Ormesa LLC.

Description: § 205(d) Rate Filing: Revisions to Market-Based Rate Tariff (Ormesa LLC) to be effective 1/30/2019.

Filed Date: 11/30/18.

Accession Number: 20181130-5072.

Comments Due: 5 p.m. ET 12/21/18.

Docket Numbers: ER19-441-000.

Applicants: ONGP LLC.

Description: § 205(d) Rate Filing: Revisions to Market-Based Rate Tariff (ONGP LLC) to be effective 1/30/2019.

Filed Date: 11/30/18.

Accession Number: 20181130-5073.

Comments Due: 5 p.m. ET 12/21/18.

Docket Numbers: ER19-442-000.

Applicants: Mammoth Three LLC.

Description: § 205(d) Rate Filing: Revisions to Market-Based Rate Tariff (Mammoth Three LLC) to be effective 1/30/2019.

Filed Date: 11/30/18.

Accession Number: 20181130-5075.

Comments Due: 5 p.m. ET 12/21/18.

Docket Numbers: ER19-443-000.

Applicants: Heber Geothermal Company LLC.

Description: § 205(d) Rate Filing: Revisions to Market-Based Rate Tariff (Heber Geothermal Company LLC) to be effective 1/30/2019.

Filed Date: 11/30/18.

Accession Number: 20181130-5077.

Comments Due: 5 p.m. ET 12/21/18.

Docket Numbers: ER19-444-000.

Applicants: ISO New England Inc., New England Power Pool Participants Committee.

Description: § 205(d) Rate Filing: ISO-NE and NEPOOL; Conforming Changes to ISO Tariff for CASPR to be effective 1/29/2019.

Filed Date: 11/30/18.

Accession Number: 20181130-5103.

Comments Due: 5 p.m. ET 12/21/18.

Docket Numbers: ER19-445-000.

Applicants: Ohio Valley Electric Corporation.

Description: Tariff Cancellation: Notice of Cancellation to be effective 12/1/2018.

Filed Date: 11/30/18.

Accession Number: 20181130-5164.

Comments Due: 5 p.m. ET 12/21/18.

Docket Numbers: ER19-446-000.

Applicants: New England Power Pool Participants Committee.

Description: § 205(d) Rate Filing: December 2018 Membership Filing to be effective 11/1/2018.

Filed Date: 11/30/18.

Accession Number: 20181130-5166.

Comments Due: 5 p.m. ET 12/21/18.

Docket Numbers: ER19-447-000.

Applicants: ISO New England Inc., New England Power Pool Participants Committee.

Description: ISO New England Inc., et al. submits Installed Capacity Requirement, Hydro Quebec Interconnection Capability Credits and Related Values for the 2019/2020, et al. Annual Reconfiguration Auction.

Filed Date: 11/30/18.

Accession Number: 20181130-5169.

Comments Due: 5 p.m. ET 12/21/18.

Docket Numbers: ER19-448-000.

Applicants: Appalachian Power Company.

Description: § 205(d) Rate Filing: OATT-Revise Attachment K, AEP Texas Inc. Rate Update to be effective 12/31/9998.

Filed Date: 11/30/18.

Accession Number: 20181130-5237.

Comments Due: 5 p.m. ET 12/21/18.

Docket Numbers: ER19-449-000.

Applicants: ISO New England Inc., New England Power Pool Participants Committee.

Description: § 205(d) Rate Filing: ISO-NE and NEPOOL; Revisions to Clarify Treatment of Retiring Resources to be effective 1/29/2019.

Filed Date: 11/30/18.

Accession Number: 20181130-5247.

Comments Due: 5 p.m. ET 12/21/18.

Docket Numbers: ER19-450-000.

Applicants: Southwest Power Pool, Inc.

Description: § 205(d) Rate Filing: 3396R1 Otter Tail Power Company NITSA and NOA to be effective 2/1/2019.

Filed Date: 11/30/18.

Accession Number: 20181130-5253.

Comments Due: 5 p.m. ET 12/21/18.

Docket Numbers: ER19-451-000.

Applicants: Pacific Gas and Electric Company.

Description: § 205(d) Rate Filing: November 2018 Western Interconnection Agreement Biannual Filing to be effective 2/1/2019.

Filed Date: 11/30/18.

Accession Number: 20181130-5257.

Comments Due: 5 p.m. ET 12/21/18.

Docket Numbers: ER19-452-000.

Applicants: Pacific Gas and Electric Company.

Description: § 205(d) Rate Filing: November 2018 Western WDT Service Agreement Biannual Filing to be effective 2/1/2019.

Filed Date: 11/30/18.

Accession Number: 20181130-5264.

Comments Due: 5 p.m. ET 12/21/18.

Docket Numbers: ER19-453-000.

Applicants: Southwest Power Pool, Inc.

Description: § 205(d) Rate Filing: MA Amendments for Mor-Gran-Sou Electric Cooperative, Inc. to be effective 11/19/2018.

Filed Date: 11/30/18.

Accession Number: 20181130-5279.

Comments Due: 5 p.m. ET 12/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2018.
Nathaniel J. Davis, Sr.,
Deputy Secretary.

[FR Doc. 2018-26639 Filed 12-7-18; 8:45 am]

BILLING CODE P